DEPARTMENT OF COMMERCE

National Oceanic and Atmospheric Administration

RIN 0648-XA357

Gulf of Mexico Fishery Management Council; Public Meeting

AGENCY: National Marine Fisheries Service (NMFS), National Oceanic and Atmospheric Administration (NOAA), Commerce.

ACTION: Notice of a public meeting.

SUMMARY: The Gulf of Mexico Fishery Management Council will convene a meeting of the Reef Fish Advisory Panel.

DATES: The meeting will convene at 9 a.m. on Monday April 25, 2011 and conclude by 5 p.m.

ADDRESSES: The meeting will be held at the Gulf of Mexico Fishery Management Council, 2203 North Lois Avenue, Suite 1100, Tampa, FL 33607; telephone: (813) 348-1630.

Council address: Gulf of Mexico Fishery Management Council, 2203 N. Lois Avenue, Suite 1100, Tampa, FL 33607.

FOR FURTHER INFORMATION CONTACT: Mr. Steven Atran, Population Dynamics Statistician; Gulf of Mexico Fishery Management Council; telephone: (813) 348-1630.

SUPPLEMENTARY INFORMATION: The Reef Fish Advisory Panel will meet to review and provide recommendations to the Council on Reef Fish Amendment 32. This amendment contains actions to establish a rebuilding plan for gag, set recreational bag limits, size limits and closed seasons for gag/red grouper in 2012, consider a commercial gag and shallow-water grouper quota adjustment to account for dead discards, make adjustment to multi-use IFQ shares in the grouper individual fishing quota program, reduce the commercial gag size limit, modify the offshore time and areas closures, and establish gag, red grouper, and shallow-water grouper accountability measures. The Panel will also review and provide recommendations on the Generic Annual Catch Limits/Accountability Measures Amendment. This amendment contains actions to delegate management of selected species to other agencies, remove selected species from the fishery management plans, group species for purposes of setting annual catch limits and annual catch targets, establish an acceptable biological catch control rule, establish an annual catch limit/annual catch target control rule, establish a generic framework procedure for implementing management changes, establish the initial specification of annual catch limits and annual catch targets for stocks and stock groups still in need of such specification, establish the apportionment of the black grouper, yellowtail snapper, and mutton snapper stocks between the Gulf and South Atlantic Council jurisdictions, set a commercial and recreational allocation of black grouper within the Gulf Council's jurisdiction, and establish accountability measures to keep catch levels within their annual catch limits or take corrective action if they exceed the limits.

Copies of the agenda and other related materials can be obtained by calling (813) 348-1630.

Although other non-emergency issues not on the agenda may come before the Advisory Panel for discussion, in accordance with the Magnuson-Stevens Fishery Conservation and Management Act, those issues may not be the subject of formal action during this meeting. Actions of the Advisory Panel will be restricted to those issues specifically identified in the agenda and any issues arising after publication of this notice that require emergency action under Section 305(c) of the Magnuson-Stevens Fishery Conservation and Management Act, provided the public has been notified of the Council's intent to take action to address the emergency.

Special Accommodations

The meeting is physically accessible to people with disabilities. Requests for sign language interpretation or other auxiliary aids should be directed to Kathy Pereira at the Council (see ADDRESSES) at least 5 working days prior to the meeting.

Dated: April 4, 2011.
Tracey L. Thompson,
Acting Director, Office of Sustainable Fisheries, National Marine Fisheries Service.

[FR Doc. 2011-8351 Filed 4-7-11; 8:45 am]

BILLING CODE 3510-22-P